DEPARTMENT OF ENERGY

Request for Information (DE-PS36-08GO38002) and Notice of Pre-Solicitation Workshop for a Planned Fuel Cell Funding Opportunity Announcement (DE-PS36-08GO98009)

AGENCY: Office of Energy Efficiency and Renewable Energy, Department of Energy (DOE).

ACTION: Notice of Pre-Solicitation Workshop for Financial Assistance Funding Opportunity Announcement (FOA) and Request for Information (RFI).

SUMMARY: In preparation for a planned Funding Opportunity Announcement (FOA), DOE's Office of Hydrogen, Fuel Cells and Infrastructure Technologies (HFCIT) is requesting information regarding potential topic areas for research, development, and demonstration that will improve fuel cell technology. This information is requested through an RFI (DE-PS36-08GO38002) and can be found at http://e-center.doe.gov. Comments in response to the RFI should be e-mailed to H2fuelcells@go.doe.gov by no later than 11:59 p.m. EDT on December 21, 2007.

In addition, DOE will lead a Pre-Solicitation Workshop planned for January 23-24, 2008, in Golden, CO. Interested parties are asked to RSVP for the Pre-Solicitation Workshop in Golden, CO, in advance if possible (last minute attendance is still welcome). Please RSVP to H2fuelcells@go.doe.gov by December 21, 2007. Information regarding the workshop details and logistics will be updated on the DOE HFCIT Program Web site, http://www.eere.energy.gov/hydrogenandfuelcells.

DATES: Written comments are sought through the RFI. These must be submitted via e-mail at the address noted above and must be received no later than 11:59 PM EDT on December 21, 2007. The Pre-Solicitation Workshop is to be held January 23-24, 2008.

ADDRESSES: The Pre-Solicitation Workshop is planned to be held in Building 7 in the Denver West Office Park at 1626 Cole Boulevard, Golden, CO 80401. Check the DOE HFCIT Program Web site noted above for updates.

FOR FURTHER INFORMATION CONTACT: David Peterson, Project Officer, via e-mail at H2fuelcells@go.doe.gov. Further information on DOE's HFCIT Program can be found at http://www1.eere.energy.gov/hydrogenandfuelcells.

SUPPLEMENTARY INFORMATION: Proceedings from the Pre-Solicitation Workshop will be posted at http://www1.eere.energy.gov/hydrogenandfuelcells. DOE intends to release a planned FOA in the future, with awards to be announced in FY2009, subject to Congressional appropriations.

Issued in Golden, CO, on November 20, 2007.
Mary Foreman,
Procurement Director, DOE Golden Field Office.

[FR Doc. E7-23358 Filed 11-30-07; 8:45 am]

BILLING CODE 6450-01-P